ENVIRONMENTAL PROTECTION AGENCY

[OPP-50880A; FRL-6820-3]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Biopesticides and Pollution Prevention Division (7511C), Office of Pesticide Programs, Environmental Protection Agency, 1200 Pennsylvania Ave., NW., Washington, DC 20460.

In person or by telephone: Contact the designated person at the following address at the office location, telephone number, or e-mail address cited in each EUP: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov. On the Home Page select “Laws and Regulations,” “Regulations and Proposed Rules,” and then look up the entry for this document under the “Federal Register—Environmental Documents.” You can also go directly to the Federal Register listings at http://www.epa.gov/fedrgstr/.

II. EUPs

EPA has issued the following EUPs:

68467-EUP-3, 68467-EUP-5, 29964-EUP-1, and 29964-EUP-3. Issuance. Mycogen Seeds c/o Dow AgroSciences LLC, 9330 Zionsville Road, Indianapolis, IN 46268 and Pioneer Hi-Bred International, Inc., 7250 NW 62nd Avenue, Johnston, IA 50131. The issuance of these EUPs allow the use of the plant-incorporated protectants Bacillus thuringiensis 149B1 protein and the genetic material necessary for its production (from the insert of plasmid PHP 14352) in corn and Bacillus thuringiensis 149B1 protein and the genetic material necessary for its production (from the insert of plasmid PHP 12560) in corn. Notice of the receipt of application of these EUPs were published in the Federal Register on March 7, 2001 (66 FR 13735) (FRL-6770-4). On October 12, 2001, the EUPs were issued. EUPs issued to Mycogen Seeds c/o Dow AgroSciences allowed the planting of 19 acres each of field corn to evaluate the control of Western and Northern corn rootworm; and to do breeding and observation. The Mycogen Seeds' programs are authorized only in the States of Hawaii and the Commonwealth of Puerto Rico. EUPs issued to Pioneer Hi-Bred allowed the planting of 16 acres each of field corn to evaluate the control of Western and Northern corn rootworm; to do breeding and observation, and to do hybrid production for research or regulatory studies. The Pioneer Hi-Bred programs are authorized only in the States of Hawaii and the Commonwealth of Puerto Rico. These EUPs are effective from October 12, 2001 to March 31, 2002. The permits have been issued with the limitation that all treated crops will be genetically contained and destroyed or used for research purposes only. Two comments were received in reply to the Federal Register notice announcing receipt of this application. One comment was from a private citizen regarding concerns over organic farming and the viability of Bt sprayables. The other comment was from the National Grain and Feed Association and raised pollen flow, neighboring farm notification, chain of custody, and contracting and disposal issues. These EUPs are of low acreage and given the containment provisions, the chance for pollen transfer to non-149B1 corn is extremely minimal to non-existent. More detailed information, including EPA evaluations and the experimental programs, are available in the public docket for these EUPs, docket control number OPP-50880. (Mike Mendelsohn; Rm. 910W16, Crystal Mall #2; telephone number: (703) 308-8715; e-mail address: mendelsohn.mike@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: February 8, 2002.
Janet L. Andersen,
Director, Biopesticides and Pollution Prevention Division, Office of Pesticide Programs.

[FR Doc. 02-4072 Filed 2-19-02; 8:45 am]

BILLING CODE 6560-50-S